DEPARTMENT OF DEFENSE

Department of the Air Force

U.S. Air Force Exclusive Patent License

AGENCY: Department of the Air Force, Air Force Research Laboratory Information Directorate, Rome, New York.

ACTION: Notice of intent to issue a partially exclusive patent license.

SUMMARY: Pursuant to the provisions of part 404 of Title 37, Code of Federal Regulations, which implements Public Law 96-517, as amended, the Department of the Air Force announces its intention to grant Synerji, LLC, a corporation of Delaware, having a place of business at 106 Genesee St., Utica, New York 13501 a partially exclusive license in any right, title and interest the United States Air Force has in: U.S. Patent Application No. 13/573,899, filed on December 17, 2012 entitled “Method for Context Aware Text Recognition.”

FOR FURTHER INFORMATION CONTACT: An exclusive license for this patent will be granted unless a written objection is received within fifteen (15) days from the date of publication of this Notice. Written objections should be sent to: Air Force Research Laboratory, Office of the Staff Judge Advocate, AFRL/RIJ, 26 Electronic Parkway, Rome, New York 13441-4514. Telephone: (315) 330-2087; Facsimile (315) 330-7583.

Henry Williams,
Civ, Acting Air Force Federal Register Liaison Officer.

[FR Doc. 2015-16468 Filed 7-2-15; 8:45 am]

BILLING CODE 5001-10-P